FEDERAL COMMUNICATIONS COMMISSION

47 CFR Part 63

[WC Docket No. 17-84; Report No. 3101]

Petition for Reconsideration of Action in Rulemaking Proceeding; Correction

AGENCY: Federal Communications Commission.

ACTION: Petition for Reconsideration; correction.

SUMMARY: The Federal Communications Commission (Commission) published a document in the Federal Register of September 19, 2018 (83 FR 47325), regarding a Petition for Reconsideration (Petition) filed in the Commission's rulemaking proceeding. The document contained the incorrect deadline for filing replies to an opposition to the Petition. This document corrects the deadline for replies to an opposition to the Petition.

DATES: October 19, 2018.

ADDRESSES: Federal Communications Commission, 445 12th Street SW, Washington, DC 20554.

FOR FURTHER INFORMATION CONTACT: Michele Berlove, Wireline Competition Bureau, at: (202) 418-1477; email: Michele.Berlove@fcc.gov.

SUPPLEMENTARY INFORMATION:

Correction

In the Federal Register of September 19, 2018, in FR Doc. 2018-20238, on page 47325, in the third column, and on page 47326 in the first column, correct the DATES section to read:

DATES: Oppositions to the Petition must be filed on or before October 4, 2018. Replies to an opposition must be filed on or before October 15, 2018.

Federal Communications Commission.
Marlene Dortch,
Secretary.

[FR Doc. 2018-22357 Filed 10-18-18; 8:45 am]

BILLING CODE 6712-01-P